DEPARTMENT OF TRANSPORTATION

Surface Transportation Board

[STB Finance Docket No. 33893]

The Blacklands Railroad Company—Operation Exemption—Northeast Texas Rural Rail Transportation District

The Blacklands Railroad Company, a Class III rail carrier, has filed a verified notice of exemption under 49 CFR 1150.41 to acquire from Northeast Texas Rural Rail Transportation District (NETEX) the rights to operate over approximately 45 miles of rail line in the State of Texas as follows: (1) Approximately 34.59 miles of rail line owned by NETEX beginning at milepost 524.0, located approximately 6.2 miles west of Sulphur Springs, and proceeding east to milepost 489.41, at the eastern county line of Franklin County; and (2) approximately 10.41 miles of rail line owned by the Union Pacific Railroad Company (UP) from milepost 489.41 to milepost 479.0 pursuant to trackage rights acquired by NETEX for the purpose of interchanging with UP.¹

¹ This transaction is related to a concurrently filed verified notice of exemption in STB Finance Docket No. 33892, Northeast Texas Rural Rail Transportation District—Acquisition Exemption—Lines of the Union Pacific Railroad Company, wherein NETEX will acquire UP's line between milepost 524.0 and 489.41, and incidental trackage rights over UP's line between 489.41 and 479.0.

The transaction was scheduled to be consummated on or after July 17, 2000.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33893, must be filed with the Surface Transportation Board, Office of the Secretary, Case Control Unit, 1925 K Street, NW, Washington, DC 20423-0001. In addition, a copy of each pleading must be served on Jo A. DeRoche, Esq., Weiner, Brodsky, Sidman & Kider, P.C., 1300 19th Street, NW, Fifth Floor, Washington, DC 20036-1609.

Board decisions and notices are available on our website at “WWW.STB.DOT.GOV.”

Decided: July 19, 2000.
By the Board, David M. Konschnik, Director, Office of Proceedings.
Vernon A. Williams,
Secretary.

[FR Doc. 00-18799 Filed 7-25-00; 8:45 am]

BILLING CODE 4915-00-P